DEPARTMENT OF TRANSPORTATION

Federal Aviation Administration

14 CFR Part 39

[Docket No. FAA-2009-1088; Directorate Identifier 2008-SW-76-AD; Amendment 39-17872; AD 2014-12-11]

RIN 2120-AA64

Airworthiness Directives; Sikorsky Aircraft Corporation Helicopters

AGENCY: Federal Aviation Administration (FAA), DOT.

ACTION: Final rule.

SUMMARY: We are adopting a new airworthiness directive (AD) for the Sikorsky Aircraft Corporation (Sikorsky) Model S-92A helicopter. This AD requires revising the Rotorcraft Flight Manual (RFM) to include the appropriate operating limitations for performing Class D external load-combination operations. This AD was prompted by an inaccurate RFM provision, which was approved without appropriate limitations for this model helicopter for carrying Class D external rotorcraft-load combinations, including human external cargo (HEC). The actions are intended to require appropriate operating limitations to allow operators to perform Class D external load-combination operations, including HEC, in this model helicopter that now meets the Category A performance standard.

DATES: This AD is effective September 8, 2014.

ADDRESSES: For service information identified in this AD, contact Sikorsky Aircraft Corporation, Attn: Manager, Commercial Technical Support, mailstop S581A, 6900 Main Street, Stratford, CT, telephone (203) 383-4866, email address tsslibrary@sikorsky.com, or at http://www.sikorsky.com. You may review a copy of the referenced service information at the FAA, Office of the Regional Counsel, Southwest Region, 2601 Meacham Blvd., Room 663, Fort Worth, Texas 76137.

Examining the AD Docket

You may examine the AD docket on the Internet at http://www.regulations.gov or in person at the Docket Operations Office between 9 a.m. and 5 p.m., Monday through Friday, except Federal holidays. The AD docket contains this AD, the economic evaluation, any comments received, and other information. The street address for the Docket Operations Office (phone: 800-647-5527) is U.S. Department of Transportation, Docket Operations Office, M-30, West Building Ground Floor, Room W12-140, 1200 New Jersey Avenue SE., Washington, DC 20590.

FOR FURTHER INFORMATION CONTACT: John Coffey, Flight Test Engineer, Boston Aircraft Certification Office, 12 New England Executive Park, Burlington, MA 01803; telephone (781) 238-7173; email: john.coffey@faa.gov.

SUPPLEMENTARY INFORMATION:

Discussion

On December 10, 2009, at 74 FR 65496, the Federal Register published our notice of proposed rulemaking (NPRM), which proposed to amend 14 CFR part 39 by adding an AD that would apply to Sikorsky Model S-92A helicopters. The NPRM proposed to require revising the RFM SA S92A-RFM-003, Part 1, Section 1, Operating Limitations, Types of Operation, by removing the statement “RESCUE HOIST: Category `A' only External load operations with Class `D' external loads.” The NPRM proposed replacing that statement with “HOIST: Class D external loads PROHIBITED.” Also, the NPRM proposed replacing the words “RESCUE HOIST” in the RFM with “HOIST”. The NPRM was prompted by a mistake in the RFM, which allowed “Class D” rotorcraft load combinations for HEC operations for this model helicopter. The Model S-92A RFM did not include the required one-engine inoperative hover performance and procedures.

On September 13, 2012, at 77 FR 56581, the Federal Register published our supplemental notice of proposed rulemaking (SNPRM), which proposed to revise the actions of the NPRM. The SNPRM proposed to allow Class D external load operations if the appropriate operating limitations are included in the RFM, instead of prohibiting rotorcraft load combinations for HEC operations. The proposed requirements were intended to require appropriate operating limitations to allow operators to perform Class D external load-combination operations, including HEC, in this model helicopter that now meets the Category A performance standard.

Comments

After our SNPRM (77 FR 56581, September 13, 2012) was published, we received comments from one commenter.

Request

Sikorsky generally concurs with the corrective action but requests that Paragraph (d)(3)(i) of the SNPRM (77 FR 56581, September 13, 2012), which requires removing a note from the RFM, be deleted from the AD. Sikorsky commented that removing the note is not appropriate with respect to applying the 150 pound penalty for the hoist. Sikorsky states that the 150 pound penalty applies to the drag of the hoist being installed on the aircraft and, if one would first determine the maximum gross weight by the chart and then apply the penalty, they would always be limited to 150 pounds below the maximum gross weight of the helicopter. Sikorsky states the note is required so pilots do not erroneously apply a 150 pound penalty to their weight when they are maximum gross weight limited instead of performance limited. As the note only applies when the aircraft is performance limited, Sikorsky requests that it not be removed.

We agree that the correct instructions need to be inserted in the Required Actions section, but disagree with Sikorsky's request. Not removing the note would result in keeping the incorrect instructions from the original Limitations section. But we are including a requirement to add the following note to the Weight Limits section of the RFM to address Sikorsky's comments and to provide accurate instructions: “NOTE: If conditions permit, the pilot may go to the right of the 26,500 pound line on Figure 1-2 to determine the maximum gross weight and then subtract a 150 pound hoist decrement. The maximum gross weight for category `A' operations cannot exceed 26,500 pounds (12,020) kilograms.”

FAA's Determination

We have reviewed the relevant information, considered the comment received, and determined that an unsafe condition exists and is likely to exist or develop on other products of these same type designs and that air safety and the public interest require adopting the AD requirements as proposed with the changes described previously. We also changed the formatting of this AD to meet current publication requirements. These changes are consistent with the intent of the proposals in the SNPRM (77 FR 56581, September 13, 2012), and will not increase the economic burden on any operator nor increase the scope of the AD.

Costs of Compliance

We estimate that this AD affects 65 helicopters in the U.S. registry. The costs for inserting a correction to the RFM are expected to be minimal.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979);

(3) Will not affect intrastate aviation in Alaska to the extent that it justifies making a regulatory distinction; and

(4) Will not have a significant economic impact, positive or negative, on a substantial number of small entities under the criteria of the Regulatory Flexibility Act.

We prepared an economic evaluation of the estimated costs to comply with this AD and placed it in the AD docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2014-12-11 Sikorsky Aircraft Corporation: Amendment 39-17872; Docket No. FAA-2009-1088; Directorate Identifier 2008-SW-76-AD.

(a) Applicability

This AD applies to Sikorsky Aircraft Corporation Model S-92A helicopters, certificated in any category.

(b) Unsafe Condition

This AD defines the unsafe condition as an inaccurate Rotorcraft Flight Manual (RFM) provision, which was approved without appropriate limitations for this model helicopter for carrying Class D external rotorcraft-load combinations, including Human External Cargo (HEC), when this model helicopter was not certificated to Category A one-engine inoperative (OEI) performance standards, including fly away capabilities after an engine failure, which is required for carrying HEC.

(c) Effective Date

This AD becomes effective September 8, 2014.

(d) Compliance

You are responsible for performing each action required by this AD within the specified compliance time unless it has already been accomplished prior to that time.

(e) Required Actions

Within 90 days, revise the Operating Limitations section of Sikorsky Rotorcraft Flight Manual (RFM) SA S92A-RFM-003, Part 1, Section I, by inserting a copy of this AD into the RFM or by making pen and ink changes, as follows:

(1) In the “Types of Operation” section, beneath Hoist, add the following: The hoist equipment certification installation approval does not constitute approval to conduct hoist operations. Operational approval for hoist operations must be granted by the Federal Aviation Administration. No cabin seats may be installed in front of station 317 when conducting Human External Cargo hoist operations, which requires Category A performance capabilities.

(2) In the “Flight Limits” section, add the following: “HOIST” When conducting Human External Cargo operations, which require category `A' performance capabilities, the minimum hover height is 20 feet AGL and the maximum hover height is 80 feet AGL. “HOIST” The collective axis must remain uncoupled when conducting Human External Cargo, which requires category `A' performance capabilities, for the period of time that the person is off the ground or water and not in the aircraft. This can be accomplished by either uncoupling the collective axis or by the pilot depressing the collective trim switch during the pertinent portion of the maneuver.

(3) In the “Weight Limits” section:

(i) Remove the following: NOTE: The 150 pound hoist decrement does not preclude Cat A operations at a gross weight of 26,500 pounds with a hoist installed. If conditions permit, the pilot may go to the right of the 26,500 line on Figure 1-2 to determine a maximum gross weight up to 26,650 and then subtract 150 pounds.

(ii) Add the following: NOTE: If conditions permit, the pilot may go to the right of the 26,500 pound line on Figure 1-2 to determine the maximum gross weight and then subtract a 150 pound hoist decrement. The maximum gross weight for category `A' operations cannot exceed 26,500 pounds (12,020 kilograms).

(iii) Add the following and insert Figure 1 to Paragraph (e)(3)(iii) of this AD: “HOIST” Maximum gross weight for Human External Cargo, which requires category `A' performance capabilities, is limited to the gross weight determined in accordance with the following Figure 1 to Paragraph (e)(3)(iii) of this AD for your altitude and temperature with the air-conditioner, anti-ice, and bleed air turned off.

Note 1 to paragraph (e)(3)(iii) of this AD: Figure 1 to Paragraph (e)(3)(iii) of this AD becomes Figure 1-2A when inserted in the “Weight Limits” section of your RFM.

BILLING CODE 4910-13-P

(f) Credit for Actions Previously Completed

Incorporation of the changes contained in Sikorsky RFM SA S92A-RFM-003, Part 1, Revision No. 12, approved March 21, 2005, before the effective date of this AD is considered acceptable for compliance with the corresponding actions specified in paragraph (e) of this AD.

(g) Alternative Methods of Compliance (AMOCs)

(1) The Manager, Boston Aircraft Certification Office, FAA, may approve AMOCs for this AD. Send your proposal to: John Coffey, Flight Test Engineer, Boston Aircraft Certification Office, 12 New England Executive Park, Burlington, MA 01803; telephone (781) 238-7173, fax (781) 238-7170; email john.coffey@faa.gov.

(2) For operations conducted under a 14 CFR part 119 operating certificate or under 14 CFR part 91, subpart K, we suggest that you notify your principal inspector, or lacking a principal inspector, the manager of the local flight standards district office or certificate holding district office before operating any aircraft complying with this AD through an AMOC.

(h) Additional Information

For service information identified in this AD, contact Sikorsky Aircraft Corporation, Attn: Manager, Commercial Technical Support, mailstop S581A, 6900 Main Street, Stratford, CT, telephone (203) 383-4866, email address tsslibrary@sikorsky.com, or http://www.sikorsky.com. You may review a copy of this information at the FAA, Office of the Regional Counsel, Southwest Region, 2601 Meacham Blvd., Room 663, Fort Worth, Texas 76137.

(i) Subject

Joint Aircraft Service Component (JASC) Code: 2510 Flight Compartment Equipment.

Issued in Fort Worth, Texas, on July 22, 2014.
S. Frances Cox,
Acting Directorate Manager, Rotorcraft Directorate, Aircraft Certification Service.

[FR Doc. 2014-17923 Filed 8-1-14; 8:45 am]

BILLING CODE 4910-13-C